DEPARTMENT OF TRANSPORTATION

Federal Motor Carrier Safety Administration

[Docket No. FMCSA-2024-0076]

Parts and Accessories Necessary for Safe Operation; Convoy Technologies, Inc Application for an Exemption

AGENCY: Federal Motor Carrier Safety Administration (FMCSA), Department of Transportation (DOT).

ACTION: Notice of final disposition; grant of exemption.

SUMMARY: The Federal Motor Carrier Safety Administration (FMCSA) announces its decision to grant a limited 5-year exemption to Convoy Technologies, Inc. (Convoy) to allow motor carriers to operate commercial motor vehicles (CMVs) with the company's Electronic Rear View System (ERVS) camera monitor system (CMS) installed as an alternative to the two rear-vision mirrors required by the Federal Motor Carrier Safety Regulations (FMCSRs). The Agency has determined that granting the exemption would likely achieve a level of safety equivalent to or greater than the level of safety provided by the regulation.

DATES: This exemption is effective July 24, 2024 and ending July 24, 2029.

FOR FURTHER INFORMATION CONTACT: Mr. David Sutula, Chief, Vehicle and Roadside Operations Division, Office of Carrier, Driver, and Vehicle Safety, FMCSA, 1200 New Jersey Avenue SE, Washington, DC 20590-0001; (202) 366-9209; MCPSV@dot.gov. If you have questions on viewing or submitting material to the docket, call Dockets Operations at (202) 366-9826.

Docket: For access to the docket to read background documents or comments submitted in response to the notice requesting public comments on the exemption application, go to www.regulations.gov at any time or visit the ground level of the West Building, 1200 New Jersey Avenue SE, Washington, DC, between 9 a.m. and 5 p.m., ET, Monday through Friday, except Federal holidays. To be sure someone is there to help you, please call (202) 366-9317 or (202) 366-9826 before visiting Docket Operations. The on-line Federal document management system is available 24 hours each day, 365 days each year. The docket number is listed at the beginning of this notice.

I. Legal Basis

FMCSA has authority under 49 U.S.C. 31136(e) and 31315(b) to grant exemptions from certain parts of the FMCSRs. FMCSA must publish a notice of each exemption request in the Federal Register (49 CFR 381.315(a)). The Agency must provide the public an opportunity to inspect the information relevant to the application, including the applicant's safety analysis. The Agency must also provide an opportunity for public comment on the request.

The Agency reviews safety analyses and public comments submitted and determines whether granting the exemption would likely achieve a level of safety equivalent to, or greater than, the level that would be achieved by the current regulation (49 CFR 381.305(a)). The decision of the Agency must be published in the Federal Register (49 CFR 381.315(b)). If granted, the notice will identify the regulatory provision from which the applicant will be exempt, the effective period (up to 5 years), and all terms and conditions of the exemption (49 CFR 381.315(c)(1)). If the exemption is denied, the notice will explain the reason for the denial (49 CFR 381.315(c)(2)). The exemption may be renewed (49 CFR 381.300(b)).

II. Convoy's Application for Exemption

Convoy has applied for an exemption from 49 CFR 393.80(a) to allow motor carriers to operate CMVs equipped with the company's ERVS CMS installed as an alternative to the two rear-vision mirrors required by the FMCSRs. A copy of the application is included in the docket referenced at the beginning of this notice.

Section 393.80(a) of the FMCSRs requires that each bus, truck, and truck-tractor be equipped with two rear-vision mirrors, one at each side. The mirrors must be positioned to reflect to the driver a view of the highway to the rear and the area along both sides of the CMV. Section 393.80(a) cross-references the National Highway Traffic Safety Administration's (NHTSA) standards for mirrors on motor vehicles (49 CFR 571.111, Federal Motor Vehicle Safety Standard [FMVSS] No. 111, “Rear Visibility”). Paragraph S7.1 of FMVSS No. 111 provides requirements for mirrors on multipurpose passenger vehicles and trucks with a gross vehicle weight rating (GVWR) greater than 4,536 kg and less than 11,340 kg and each bus, other than a school bus, with a GVWR of more than 4,536 kg. Paragraph S8.1 provides requirements for mirrors on multipurpose passenger vehicles and trucks with a GVWR of 11,340 kg or more.

The ERVS CMS consists of six cameras: two camera assemblies each with two high-definition cameras firmly mounted high on each side of the CMV exterior for optimal visibility, along with the option to add one additional rear-view camera per assembly. Each camera has a specific field of view (FOV) and is enclosed in an aerodynamic package that provides environmental protection for the cameras. Each camera presents a clear image to the driver by means of an internal monitor firmly mounted to the left and right A-pillar of the CMV, i.e., the structural member between the windshield and door of the cab. The installation of the monitors on the A-pillars creates no additional visual obstruction, while eliminating the substantial blind spots created by conventional mirrors. Convoy states that its ERVS CMS meets and/or exceeds the visibility requirements provided in FMVSS No. 111 based on the following factors:

• Expanded FOV: the ERVS provides approximately 25% expansion of driver FOV.

• Left/Right Blind Zone Rear View: a super-wide view angle that reduces left/right blind zones and transmits the images through a high-speed video transmission to produce a clear, real-time display.

• A-pillar Blind Zone Elimination: camera angles provide drivers with full 180-degree views from the side of the CMV, eliminating A-pillar blind zones.

• Front Corner Blind Zone Elimination: a unique forward-facing camera that provides clear visibility over the front right comer of the CMV, a high-risk blind spot that causes crashes.

• HD [high definition] Night Vision System: auto-dimming night vision technology that provides clear imaging and superior nighttime visibility through an HD image display.

• Camera LED [light-emitting diode] Auto Light: a built-in LED light in the camera that automatically adjusts to different road conditions to create a clearer display and appropriate screen brightness in low-light conditions.

• Screen Brightness Auto Adjustment: backlight brightness that adjusts automatically at day and night to reduce low-light and high-light/glare environments and provide optimal image quality.

• Uninterrupted, Fail-Safe Display: the ERVS is made up of multiple cameras to protect against malfunctions in the unlikely event of an individual camera failure. It also features defrosting elements and heat chips to provide continuous camera functioning in cold weather.

• Weather Resilient: unlike traditional mirrors, the ERVS internally mounted displays are protected from the elements; high camera placement and shielded, downward-facing camera orientation protects cameras from inclement weather.

• Fatigue Reduction: the system is ergonomically designed to reduce driver head movements and therefore reduce driver fatigue.

• HD Dual DVR [digital video recorder] Recording and Playback: dual HD recording that can provide important data for accident reconstruction and crash accountability.

Convoy believes that mounting the system as described would maintain a level of safety that is equivalent to, or greater than, the level of safety achieved without the exemption.

III. Summary of Comments

FMCSA published a notice of the application in the Federal Register on February 29, 2024, requesting public comment (89 FR 14928). The Agency received comments from three individuals. Two generally opposed to the application and one supported it.

Two commenters who opposed the exemption generally discourage the use of cameras to replace mirrors. They highlight the potential dangers of relying solely on electronic systems and advocate for the continued use of traditional mirrors. Their concern is that relying solely on cameras could create unsafe operating conditions in the event of a camera failure.

Although the Agency received two comments opposing this exemption, FMCSA has received numerous positive comments in support of other, similar camera-based mirror system exemptions, such as in Stoneridge, Inc. “MirrorEye Camera Monitor System” (84 FR 5557, February 21, 2019), Vision Systems North America “SmartVision System” (85 FR 2486, January 15, 2020), Robert Bosch, LLC and Mekra Lang North America, LLC (Bosch) “Digital Mirror System” (85 FR 58106, September 17, 2020), and Rosco Vision, Inc. “Commercial Vehicle Digital Camera Monitor System” (87 FR 73386, December 4, 2022). Seventeen motor carriers, associations and individuals supported the Stoneridge application, specifically noting the following benefits: (1) superior total FOV around a CMV, including reduction/elimination of blind spots (2) increased visibility when driving at night and during inclement weather, (3) enhanced vehicle maneuverability in backing, turning, and lane changes through use of trailer scanning, (4) and reduced driver fatigue.

Vision Systems North America's application was supported by 5 motor carriers, associations, and individuals. These commenters specifically noted the following benefits of the camera-based mirror system proposed: (1) improved FOV around a CMV, including reduction/elimination glare and blind spots, (2) increased visibility when driving at night and during inclement weather, and (3) reduced driver fatigue.

The American Bus Association (ABA) commented in support of the Bosch Digital Mirror System. The ABA noted that the Bosch system provided the following visibility benefits: (1) anti-glare, (2) improved visibility at night and during adverse weather conditions, and (3) elimination of blind spots by providing a broader FOV around the vehicle.

In addition to the positive comments received relating to other CMS systems, the Agency has not received any reports of crashes or other safety concerns relating to the previously granted CMS exemption applications.

IV. FMCSA Decision Granting Exemption

FMCSA evaluated Convoy's application for exemption and the comments received. For the reasons discussed below, FMCSA grants the exemption to allow motor carriers to install and operate CMVs with the company's ERVS CMS as an alternative to the two rear-vision mirrors required by the FMCSRs. FMCSA believes that the ERVS CMS is likely to achieve a level of safety equivalent to or greater than the level of safety achieved by the regulation.

A. Equivalent Level of Safety Analysis

Section 393.80 cross-references FMVSS No. 111 which requires CMVs with a GVWR of 11,340 kg (25,000 pounds) or more to be equipped with a rearview mirror size of unit magnification of no less than 323 cm² (50 in²) on each side of the vehicle. In its comments to a 2019 NHTSA Advance Notice of Proposed Rulemaking on rear visibility, the Engine Manufacturers Association ¹ (EMA) noted that CMV manufacturers are equipping CMVs with mirrors that are more than twice the minimum size required for each side of the vehicle, as well as adding convex mirrors to provide the driver a still greater FOV. The manufacturers install these larger, less aerodynamic mirrors to provide the driver the enhanced visibility that is crucial to the safe operation of a large truck. Similarly, CMS like Convoy's ERVS CMS are capable of providing an enhanced FOV that exceeds FMVSS No. 111 and the current rear-vision mirrors installed on CMVs.

¹ Engine Manufacturers Association (EMA) comments to NHTSA ANPRM Federal Motor Vehicle Safety Standard No. 111, Rear Visibility (84 FR 54533, October 10, 2019), https://www.regulations.gov/comment/NHTSA-2018-0021-0493.

FMCSA notes that CMS are authorized for use in a number of European countries as a legal alternative to the traditional rear-vision mirrors under the requirements of United Nations Economic Commission for Europe (UNECE) R46 which specifies minimum safety, ergonomic, and performance requirements for CMS in place of mandatory inside and outside rearview mirrors for road vehicles. This regulation references ISO (International Organization for Standardization) standard 16505 Rev 2019 which addresses CMS definitions and required performance for use in road vehicles. The specifications for CMS systems in ISO 16505 exceed the FOV requirements in FMVSS No. 111.

FMCSA has reviewed Convoy's exemption application and has determined that its ERVS CMS exceeds both the FOV required by FMVSS No. 111 and the standards of rear-vision mirrors currently installed by manufacturers.

FMCSA acknowledges the concerns of the two individual commenters regarding potential system failure of the ERVS CMS. FMCSA notes that the ERVS CMS is designed with redundancy in the event of camera failure such that if one of the cameras within the camera assembly were to fail, the system automatically adjusts the view of the interior monitor for that side of the vehicle to a full screen view of the remaining working camera. Furthermore, if the entire camera assembly on one side were to fail, the functionality of the other side remains unaffected.

In the event of camera or monitor failure, the CMV would not be subject to an out-of-service (OOS) order because it is not a critical inspection item under CVSA's OOS criteria,² in the same way conventional mirrors are not out of service if cracked or damaged while in operation. Instead, the CMV would be subject to the requirements of 49 CFR 396.11 which would require a driver to complete a driver vehicle inspection report at the end of the workday and the motor carrier to correct any identified safety defects before permitting or requiring a driver to operate the CMV again.

² The CVSA OOSC states that any motor vehicle which by reason of its mechanical condition or loading that would be likely to cause an accident or breakdown is considered “Out-of-Service.” Violations, other than Out-of-Service conditions, detected during the inspection process will not preclude the completion of the current trip or dispatch. However, such violations must be corrected or repaired prior to redispatch. See https://www.cvsa.org/inspections/out-of-service-criteria/.

Additionally, under 49 CFR 392.7(a), CMV drivers must satisfy themselves that a vehicle is in safe condition before operating the vehicle. This obligation would include ensuring that both rear-vision mirrors (or in this case, all components of the ERVS CMS including all external cameras and both internal monitors) are in good working order. CMVs are also subject to the periodic inspection requirements under 49 CFR 396.17 which would include an inspection of the ERVS CMS. To further ensure that the ERVS CMS system is properly maintained, the terms and conditions of the exemption specify that motor carriers and drivers operating CMVs equipped with the ERVS CMS must inspect them before operating the vehicle.

FMCSA believes that the ERVS CMS is likely to achieve a level of safety equivalent to or greater than the level of safety that would be achieved by standard rear-view mirrors because it provides a greater FOV, eliminates the blind spots on both sides of the vehicle, provides a monitor with low-light sensitivity feature, and includes a camera heating system, all of which exceed the current requirements of 49 CFR 393.80. The FMCSRs impose several operational controls that will help ensure that the ERVS CMS is functioning properly. Before driving a vehicle, a driver must be satisfied that the vehicle is in safe operating condition, and that any system failures reported have been corrected prior to vehicle re-dispatch. Additionally, the driver must complete a driver vehicle inspection report at the completion of the workday, noting any system defects or failures that occurred during operation of the vehicle.

B. Duration of Exemption

The Agency grants the exemption for a 5-year period, beginning July 24, 2024 and ending July 24, 2029 unless rescinded earlier by FMCSA. During the exemption period, motor carriers operating CMVs may install and utilize Convoy's ERVS CMS in lieu of the two rear-vision mirrors required by section 393.80 of the FMCSRs. The Agency encourages drivers operating CMVs under this exemption to carry a copy of the exemption in the vehicle.

C. Conditions of Exemption

1. This exemption is limited to Convoy's ERVS CMS installed on CMVs and does not apply to any other camera-based mirror-replacement system/technology.

2. Drivers operating CMVs under this exemption must inspect the ERVS CMS each time before operating the CMV and ensure that it is in proper working order.

3. Drivers operating CMVs under this exemption must inspect the equipment at the end of each day and note any defects in the equipment. The motor carrier must repair any defects noted by the driver before allowing the operation of the CMV.

D. Preemption

In accordance with 49 U.S.C. 31315(d), as implemented by 49 CFR 381.600, during the period this exemption is in effect, no State shall enforce any law or regulation applicable to interstate commerce that conflicts with or is inconsistent with this exemption with respect to a person operating under the exemption. States may, but are not required to, adopt the same exemption with respect to operations in intrastate commerce.

E. Termination

FMCSA does not believe the motor carrier, the drivers, and CMVs covered by the exemption will experience any deterioration of their safety records. However, should this occur, FMCSA will take all steps necessary to protect the public interest, including revocation of the exemption without prior notice. The exemption will be rescinded if: (1) motor carriers and/or CMV drivers fail to comply with the terms and conditions of the exemption; (2) the exemption has resulted in a lower level of safety than maintained before it was granted; or (3) continuation of the exemption would not be consistent with the goals and objectives of 49 U.S.C. 31136(e) or 31315(b).

The motor carrier must, in addition to existing periodic inspections required by 49 CFR 396.17, periodically inspect the ERVS CMS. Interested parties possessing information that would demonstrate that motor carriers operating CMVs utilizing Convoy's ERVS CMS installed as an alternative to two rear-vision mirrors are not achieving the requisite statutory level of safety should immediately notify FMCSA by email at MCPSV@DOT.GOV. The Agency will evaluate any such information and, if safety is being compromised or if the continuation of the exemption is not consistent with 49 U.S.C. 31136(e) and 31315(b), will take immediate steps to revoke the exemption. We encourage drivers operating CMVs under this exemption to carry a copy of the exemption in the vehicle.

Sue Lawless,
Acting Deputy Administrator.

[FR Doc. 2024-16208 Filed 7-23-24; 8:45 am]

BILLING CODE 4910-EX-P